ENVIRONMENTAL PROTECTION AGENCY

[EPA-HQ-OAR-2004-0500; FRL-11705-01-OMS]

Agency Information Collection Activities; Submission to the Office of Management and Budget for Review and Approval; Comment Request; EPA's ENERGY STAR Program in the Residential Sector (Renewal)

AGENCY: Environmental Protection Agency (EPA).

ACTION: Notice.

SUMMARY: The Environmental Protection Agency (EPA) has submitted an information collection request (ICR), EPA's ENERGY STAR Program in the Residential Sector (EPA ICR Number 2193.05, OMB Control Number 2060-0586) to the Office of Management and Budget (OMB) for review and approval in accordance with the Paperwork Reduction Act. This is a proposed extension of the ICR, which is currently approved through January 30, 2024. Public comments were previously requested via the Federal Register on April 18, 2023, during a 60-day comment period. This notice allows for an additional 30 days for public comments.

DATES: Comments may be submitted on or before February 29, 2024.

ADDRESSES: Submit your comments, referencing Docket ID No. EPA-HQ-OAR-2004-0500 to EPA online using www.regulations.gov (our preferred method), by email to a-and-r-docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Zachary Shadid, Energy Star Residential Branch, Mail code 6202A, Environmental Protection Agency, 1200 Pennsylvania Ave. NW, Washington, DC 20460; telephone number: (202) 343-9058; fax number: (202) 343-2204; email address: shadid.zachary@epa.gov.

SUPPLEMENTARY INFORMATION: This is a proposed extension of the ICR, which is currently approved through January 31, 2024. An agency may not conduct or sponsor and a person is not required to respond to a collection of information unless it displays a currently valid OMB control number.

Public comments were previously requested via the Federal Register on April 18, 2023 during a 60-day comment period (88 FR 23671). This notice allows for an additional 30 days for public comments. Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: ENERGY STAR® is a voluntary energy efficiency labeling and public outreach program aimed at forming public-private partnerships that prevent air pollution rather than control it after its creation. This ICR covers information collection activities under the ENERGY STAR program within the new residential construction and existing residential construction markets. ENERGY STAR promotes energy efficient new home construction and cost-effective energy efficiency improvements in existing homes.

Form Numbers: 5900-188, 5900-266, 5900-268, 5900-269, 5900-270, 5900-420, 5900-421, 5900-422, 5900-423, 5900- 424, 5900- 425, 5900-426, 5900-427, 5900-428, 5900-429, 5900-446, 5900-447.

Respondents/affected entities: Respondents in this ICR include ENERGY STAR partners, including home builders, multifamily high rise developers, manufactured home plants, verification organizations, and energy efficiency program sponsors. Also included are oversight organizations and HVAC contractors.

Respondent's obligation to respond: Voluntary.

Estimated number of respondents: 1,256 (total).

Frequency of response: Once, quarterly, annually, and on occasion.

Total estimated burden: 208,824 hours (per year). Burden is defined at 5 CFR 1320.03(b).

Total estimated cost: $20,656,339 (per year), includes $0 annualized capital or operation & maintenance costs.

Changes in the Estimates: There is an increase of 30,976 hours in the total estimated respondent burden compared with the ICR currently approved by OMB. This increase is due to increasing energy codes and a shift to more individually verified homes. EPA updated program technical specifications to be more rigorous in the verification process while trying to reduce the number of items required to verify homes for the ENERGY STAR label. Additionally, a natural market shift occurred, resulting in an increase in individually verified homes and a reduction in sampled homes. The sampling protocol enables partners to test one in seven homes in what is termed a `sample set.' ENERGY STAR partners have a choice when verifying homes to use a sampling or individually verified protocol. Due to various market forces, ENERGY STAR partners increasingly choose to individually verify homes instead of using the sampling protocol. EPA expects this trend to continue as ENERGY STAR partners become more Environmental, Social and Governance (ESG) and data-driven-focused.

Courtney Kerwin,
Director, Information Engagement Division.

[FR Doc. 2024-01805 Filed 1-29-24; 8:45 am]

BILLING CODE 6560-50-P